DEPARTMENT OF ENERGY

Federal Energy Regulatory Commission

[Project No. 2142-031]

FPL Energy Maine Hydro LLC; Notice Revising Processing Schedule and Issuing an Environmental Assessment

May 17, 2002.

On December 14, 2001, the Federal Energy Regulatory Commission (Commission) issued a Scoping Document 2 (SD2) for the Indian Pond Project (FERC No. 2142-031). The SD2 included a schedule for processing the application for a new license for the Project. The schedule estimated issuing a draft environmental assessment (EA) during the Spring-Summer 2002 and a final EA during the Fall-Winter 2002.

The Commission staff will issue one EA rather than issuing a draft and final EA. Staff intends to allow at least 30 days for entities to comment on the EA, and will take into consideration all comments received on the EA before final action is taken on the license application. The application will be processed according to the following milestones. Revisions to these milestones will be made when the Commission determines it is necessary to do so.

Environmental Assessment Fall—Winter 2002

Order on License Decision Spring—2003

Magalie R. Salas,
Secretary.

[FR Doc. 02-12943 Filed 5-22-02; 8:45 am]

BILLING CODE 6717-01-P